DEPARTMENT OF STATE

[Public Notice 3942]

Notice of Proposal To Extend U.S.-Guatemala Memorandum of Understanding

AGENCY: Department of State.

ACTION: Notice of Proposal to Extend U.S.-Guatemala.

Memorandum of Understanding

The Government of the Republic of Guatemala has indicated its interest in an extension of the Memorandum of Understanding between the Government of the United States of America and the Government of the Republic of Guatemala Concerning the Imposition of Import Restrictions on Archaeological Objects and Materials from the Pre-Columbian Cultures of Guatemala, signed on September 29, 1997. Pursuant to the authority vested in the president's designee under Department of State Delegation of Authority No. 236-3, and pursuant to the requirement under 19 U.S.C. 2602(f)(1), an extension of this MOU is hereby proposed. Pursuant to 19 U.S.C. 2602(f)(2), the views and recommendations of the Cultural Property Advisory Committee regarding this proposal will be requested.

A copy of this Memorandum of Understanding, the designated list of restricted categories of material, and related information can be found at the following Web site: http://exchanges.state.gov/education/culprop.

Dated: March 5,2002.
Patricia S. Harrison,
Assistant Secretary for Educational and Cultural Affairs, Department of State.

[FR Doc. 02-5767 Filed 3-8-02; 8:45 am]

BILLING CODE 4710-11-P